FEDERAL COMMUNICATIONS COMMISSION

47 CFR Part 73

[DA 13-313; MB Docket No. 13-51; RM-11692]

Radio Broadcasting Services; Ehrenberg, Arizona

AGENCY: Federal Communications Commission.

ACTION: Proposed rule.

SUMMARY: This document requests comments on a Petition for Rule Making filed by S and H Broadcasting, LLC, proposing the substitution of Channel 228C2 for vacant Channel 286C2 at Ehrenberg, Arizona. The proposed channel substitution at Ehrenberg accommodates the contingent hybrid application that requests the city of license modification for Station KRSX-FM, from Channel 287A, Twentynine Palms, California, to Channel 286A, North Shore, California. A staff engineering analysis indicates that Channel 228C2 can be allotted to Ehrenberg, Arizona consistent with the minimum distance separation requirements of the Commission's Rules with a site restriction located 11.1 kilometers (6.9 miles) east of Ehrenberg. In this regard, the Audio Division, on its own motion, modifies the reference coordinates for proposed Channel 228C2 at Ehrenberg, Arizona to the least restricted site. The reference coordinates are 33-36-54 NL and 114-24-14 WL. Channel 228C2 at Ehrenberg is located within 320 kilometers (199 miles) of the U.S.-Mexican border, so concurrence by the Government of Mexico is required. Mexican concurrence has been requested for this vacant allotment, but has not yet been received.

DATES: Comments must be filed on or before June 10, 2013, and reply comments on or before June 25, 2013.

ADDRESSES: Secretary, Federal Communications Commission, 445 12th Street SW., Washington, DC 20554. In addition to filing comments with the FCC, interested parties should serve the petitioner as follows: Peter Gutmann, Esq., Womble Carlyle Sandridge & Rice, LLP, 1200 19th Street NW., 5th Floor, Washington, DC 20036.

FOR FURTHER INFORMATION CONTACT: Rolanda F. Smith, Media Bureau, (202) 418-2700.

SUPPLEMENTARY INFORMATION: This is a synopsis of the Commission's Notice of Proposed Rule Making, MB Docket No.13-51, adopted April 18, 2013, and released April 19, 2013. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR Part 73 as follows:

PART 73—RADIO BROADCAST SERVICES

1. The authority citation for part 73 continues to read as follows:

Authority: 47 U.S.C. 154, 303, 334, 336 and 339.

§ 73.202 [Amended]

2. Section 73.202(b), the Table of FM Allotments under Arizona, is amended by removing Channel 286C2 and by adding Channel 228C3 at Ehrenberg.

[FR Doc. 2013-10850 Filed 5-7-13; 8:45 am]

BILLING CODE 6712-01-P